DEPARTMENT OF TRANSPORTATION

Federal Aviation Administration

14 CFR Part 95

[Docket No. 31381; Amdt. No. 560]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: 0901 UTC, August 12, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 95 Airspace, Navigation (air).

Issued in Washington, DC, on July 9, 2021.
Thomas J. Nichols,
Aviation Safety Manager, Flight Procedures & Airspace Group, Flight Technologies and Procedures Division.

Adoption of the Amendment

Accordingly, pursuant to the authority delegated to me by the Administrator, part 95 of the Federal Aviation Regulations (14 CFR part 95) is amended as follows effective at 0901 UTC, August 12, 2021.

1. The authority citation for part 95 continues to read as follows:

Authority: 49 U.S.C. 106(g), 40103, 40106, 40113, 40114, 40120, 44502, 44514, 44719, 44721.

2. Part 95 is amended to read as follows:

Revisions To IFR Altitudes & Changeover Point
[Amendment 560 effective date August 12, 2021]
From | To | MEA
Color Routes
§ 95.2 Red Federal Airway R50 Is Amended To Delete
NANWAK, AK NDB/DME | OSCARVILLE, AK NDB | 3000
OSCARVILLE, AK NDB | ANVIK, AK NDB | 4100

From | To | MEA | MAA
§ 95.3000 Low Altitude RNAV Routes
§ 95.3207 RNAV Route T207 Is Amended To Delete
CARRA, FL FIX | CECIL, FL VOR | *1900 | 15000
CECIL, FL VOR | MONIA, GA FIX | *1900 | 15000
Is Amended To Read in Part
CARRA, FL FIX | MONIA, GA FIX | *1900 | 15000
§ 95.3219 RNAV Route T219 Is Amended by Adding
RUFVY, AK WP | MKLUK, AK WP | *2000 | 17500
MKLUK, AK WP | HOOPER BAY, AK VOR/DME | *2000 | 17500
*1300—MOCA
Is Amended To Delete
NANWAK, AK NDB/DME | RUFVY, AK WP | *2300 | 17500
*1700—MOCA
Is Amended To Read in Part
DILLINGHAM, AK VOR/DME | BROUS, AK WP | *6000 | 17500
*5000—MOCA
BROUS, AK WP | NACIP, AK FIX | *6000 | 17500
*5400—MO
NACIP, AK FIX | ACATE, AK WP | *6000 | 17500
*5400—MOCA
ACATE, AK WP | RUFVY, AK WP | *2000 | 17500
*1300—MOCA
§ 95.3269 RNAV Route T269 Is Amended by Adding
BETHEL, AK VORTAC | MKLUK, AK WP | *2800 | 17500
Is Amended To Read in Part
ANNETTE ISLAND, AK VOR/DME | TURTY, AK WP | *5700 | 17500
TURTY, AK WP | TOKEE, AK FIX | *5700 | 17500
TOKEE, AK FIX | FLIPS, AK FIX | *6300 | 17500
FLIPS, AK FIX | BIORKA ISLAND, AK VORTAC | *6000 | 17500
BIORKA ISLAND, AK | VORTAC SALIS, AK FIX | *5100 | 17500
SALIS, AK FIX | HAPIT, AK FIX | *6200 | 17500
*2000—MOCA
HAPIT, AK FIX | CENTA, AK FIX | *6200 | 17500
*2000—MOCA
CENTA, AK FIX | YAKUTAT, AK VOR/DME | *2000 | 17500
YAKUTAT, AK VOR/DME | MALAS, AK FIX | *2400 | 17500
MALAS, AK FIX | KATAT, AK FIX | *9000 | 17500
*5300—MOCA
KATAT, AK FIX | CASEL, AK FIX | *7000 | 17500
*4200—MOCA
CASEL, AK FIX | JOHNSTONE POINT, AK VOR/DME | **5100 | 17500
*5000—MCA JOHNSTONE POINT, AK VOR/DME, E BND
JOHNSTONE POINT, AK VOR/DME | FIMIB, AK WP | **3200 | 17500
*5400—MCA FIMIB, AK WP, W BND
FIMIB, AK WP | ANCHORAGE, AK VOR/DME | **8800 | 17500
*6300—MCA ANCHORAGE, AK VOR/DME, E BND
ANCHORAGE, AK VOR/DME | YONEK, AK FIX | **3100 | 17500
*6000—MCA YONEK, AK FIX, W BND
YONEK, AK FIX | TORTE, AK FIX | **5000 | 17500
*8400—MCA TORTE, AK FIX, W BND
TORTE, AK FIX | VEILL, AK FIX | **10600 | 17500
*8000—MCA VEILL, AK FIX, E BND
VEILL, AK FIX | SPARREVOHN, AK VOR/DME | *7200 | 17500
SPARREVOHN, AK VOR/DME | ACRAN, AK FIX | *5200 | 17500
ACRAN, AK FIX | VIDDA, AK FIX | *6000 | 17500
VIDDA, AK FIX | BETHEL, AK VORTAC | *2500 | 17500

From | To | MEA
§ 95.6001 Victor Routes—U.S.
§ 95.6025 VOR Federal Airway V25 Is Amended To Read in Part
GOBBS, CA FIX | STINS, CA FIX | 3500
STINS, CA FIX | *POINT REYES, CA VOR/DME | 3700
*8200—MCA POINT REYES, CA VOR/DME, N BND
POINT REYES, CA VOR/DME | *FREES, CA FIX | 3500
*10200—MCA FREES, CA FIX, N BND
FREES, CA FIX | *GETER, CA FIX | **6000
*12000—MCA GETER, CA FIX, N BND
**6000—GNSS MEA
GETER, CA FIX | *LAPED, CA FIX | **12000
*9000—MRA
*12000—MCA LAPED, CA FIX, S BND
**6500—MOCA
§ 95.6027 VOR Federal Airway V27 Is Amended To Read in Part
STINS, CA FIX | POINT REYES, CA VOR/DME | 3700
§ 95.6049 VOR Federal Airway V49 Is Amended To Delete
VULCAN, AL VORTAC | FOLSO, AL WP | 3100
FOLSO, AL WP | MASHA, AL FIX |
| N BND | *3000
| S BND | *3100
*2400—MOCA
MASHA, AL FIX | DECATUR, AL VOR/DME | *3000
*2300—MOCA
DECATUR, AL VOR/DME | ELKED, AL WP | 2500
ELKED, AL WP | NASHVILLE, TN VORTAC | *3500
*2700—MOCA
§ 95.6072 VOR Federal Airway V72 Is Amended To Delete
DOGWOOD, MO VORTAC | GOBEY, MO FIX | 3400
GOBEY, MO FIX | MAPLES, MO TACAN | 3400
MAPLES, MO TACAN | BUNKS, MO FIX | 3000
BUNKS, MO FIX | FARMINGTON, MO VORTAC | 3500
§ 95.6108 VOR Federal Airway V108 Is Amended by Adding
ROZZA, CA FIX | SCAGGS ISLAND, CA VORTAC | 4700
Is Amended To Delete
SANTA ROSA, CA VOR/DME | SCAGGS ISLAND, CA VORTAC | 4500
§ 95.6139 VOR Federal Airway V139 Is Amended To Read in Part
SEEDY, NH FIX | KENNEBUNK, ME VOR/DME | *5000
*2000—MOCA
*2500—GNSS MEA
§ 95.6190 VOR Federal Airway V190 Is Amended To Delete
SPRINGFIELD, MO VORTAC | MAPLES, MO TACAN | 3000
MAPLES, MO TACAN | BUNKS, MO FIX | 3000
BUNKS, MO FIX | FARMINGTON, MO VORTAC | 3500
§ 95.6219 VOR Federal Airway V219 Is Amended To Read in Part
HAYES CENTER, NE VORTAC | *YOZLE, NE FIX | **7000
*7000—MRA
**4500—MOCA
**5000—GNSS MEA
YOZLE, NE FIX | WOLBACH, NE VORTAC
| NE BND | *5000
| SW BND | *7000
*4500—MOCA
*5000—GNSS MEA
§ 95.6238 VOR Federal Airway V238 Is Amended To Delete
MAPLES, MO TACAN | IMPER, MO FIX | 3000
IMPER, MO FIX | TROY, IL VORTAC | 2600
§ 95.6400 VOR Federal Airway V242 Is Amended To Delete
INTERNATIONAL FALLS, MN VOR/DME | U.S. CANADIAN BORDER | 3000
§ 95.6289 VOR Federal Airway V289 Is Amended To Read in Part
DOGWOOD, MO VORTAC | PEKLE, MO FIX | *3900
*3000—MOCA
PEKLE, MO FIX | VICHY, MO VOR/DME | 3000
§ 95.6301 VOR Federal Airway V301 Is Amended by Adding
POINT REYES, CA VOR/DME | *ROZZA, CA FIX | 3500
*11000—MCA ROZZA, CA FIX, N BND
ROZZA, CA FIX | KLOGE, CA FIX | *11000
*4500—MOCA
*5000—GNSS MEA
Is Amended To Delete
POINT REYES, CA VOR/DME | SANTA ROSA, CA VOR/DME | 3500
SANTA ROSA, CA VOR/DME | *KLOGE, CA FIX | 5000
*6400—MCA KLOGE, CA FIX, NE BND
Is Amended To Read in Part
KLOGE, CA FIX | RUMSY, CA FIX | *11000
*6600—MOCA
*7000—GNSS MEA
RUMSY, CA FIX | WILLIAMS, CA VORTAC |
| SW BND | 11000
| NE BND | 5300
§ 95.6346 VOR Federal Airway V346 Is Amended To Delete
U.S. CANADIAN BORDER | MILLINOCKET, ME VOR/DME | *6000
*5100—MOCA
§ 95.6400 VOR Federal Airway V400 Is Amended To Delete
PRESQUE ISLE, ME VOR/DME | U.S. CANADIAN BORDER | *6000
*4000—MOCA
§ 95.6487 VOR Federal Airway V487 Is Amended To Delete
BURLINGTON, VT VOR/DME | U.S. CANADIAN BORDER | 2800
§ 95.6494 VOR Federal Airway V494 Is Amended by Adding
MENDOCINO, CA VORTAC | *ROZZA, CA FIX | 6000
*7000—MCA ROZZA, CA FIX, E BND
ROZZA, CA FIX | POPES, CA FIX | *7000
*5000—MOCA
*5000—GNSS MEA
Is Amended To Delete
MENDOCINO, CA VORTAC | SANTA ROSA, CA VOR/DME | 6000
SANTA ROSA, CA VOR/DME | POPES, CA FIX | 5000
Is Amended To Read in Part
POPES, CA FIX | RAGGS, CA FIX | 5000
RAGGS, CA FIX | SACRAMENTO, CA VORTAC | 5000
§ 95.6541 VOR Federal Airway V541 Is Amended To Delete
GADSDEN, AL VOR/DME | HOBBI, AL FIX | 3600
*2800—MOCA
HOBBI, AL WP | DECATUR, AL VOR/DME | 3000
DECATUR, AL VOR/DME | MUSCLE SHOALS, AL VORTAC | 2500
Is Amended To Read in Part
GADSDEN, AL VOR/DME | EDDIE, AL FIX | 3600
§ 95.6319 Alaska VOR Federal Airway V319 Is Amended To Delete
HOOPER BAY, AK VOR/DME | NANWAK, AK NDB/DME | 2300

Airway segment: From | Airway segment: To | Changeover points: Distance | Changeover points: From
§ 95.8003 VOR Federal Airway Changeover Point
V49 Is Amended To Delete Changeover Point
VULCAN, AL VORTAC | DECATUR, AL VOR/DME | 35 | VULCAN.
V494 Is Amended To Delete Changeover Point
MENDOCINO, CA VORTAC | SANTA ROSA, CA VOR/DME | 25 | MENDOCINO.
SANTA ROSA, CA VOR/DME | SACRAMENTO, CA VORTAC | 25 | SANTA ROSA.
§ 95.8005 Jet Route Changeover Point
J89 Is Amended To Delete Changeover Point
ATLANTA, GA VORTAC | VALDOSTA, GA VOR/DME | 90 | ATLANTA.

[FR Doc. 2021-15222 Filed 7-16-21; 8:45 am]

BILLING CODE 4910-13-P